Title 3—

The President

Proclamation 10921 of April 23, 2025

National Park Week, 2025

By the President of the United States of America

A Proclamation

During National Park Week, we celebrate the majestic beauty and rich history preserved within our national parks. The week's events will begin with a commemoration of the 250th anniversary of the Battles of Lexington and Concord, the opening battles of the American Revolutionary War at Minute Man National Historical Park in Middlesex County, Massachusetts. There, ceremonies and tactical demonstrations will recall the bravery of the patriots who stood their ground against tyranny and launched a movement that secured the blessing of freedom and forever changed the course of history.

As President, I have taken action to restore names to our parks that honor American greatness—including returning Mount McKinley to its rightful name. I was also proud to announce the creation of the National Garden of American Heroes—a new monument honoring 250 American patriots who embodied the virtues of courage, love of country, and devotion to our Nation's highest ideals. My Administration is promoting education that teaches our children to love our country and honor our history, including through the work of the White House Task Force on Celebrating America's 250th Birthday.

Our national parks are magnificent sources of inspiration, education, and recreation—representing our customs and culture. In 1872, Yellowstone National Park was established as the world's first-ever national park, commencing a proud American tradition that has led to the designation of more than 400 park sites of national significance. From prehistoric dwellings and architectural masterpieces to historic battlefields where our forefathers fought for independence, our national parks draw hundreds of millions of visitors each year.

This National Park Week, we renew our pledge to cherish and protect our magnificent symbols of American greatness, and we vow to ensure that they remain breathtaking for our children and grandchildren.

NOW, THEREFORE, I, DONALD J. TRUMP, President of the United States of America, by virtue of the authority vested in me by the Constitution and the laws of the United States, do hereby proclaim April 19 through April 27, 2025, as National Park Week. I encourage all Americans to celebrate our national parks by learning more about the natural and historical heritage that belongs to each and every citizen of the United States of America.

IN WITNESS WHEREOF, I have hereunto set my hand this twenty-third day of April, in the year of our Lord two thousand twenty-five, and of the Independence of the United States of America the two hundred and forty-ninth.

[FR Doc. 2025-07365

Filed 4-25-25; 8:45 am]

Billing code 3395-F4-P